DEPARTMENT OF AGRICULTURE

Forest Service

36 CFR Parts 223 and 261

RIN 0596-AB81

Sale and Disposal of National Forest System Timber; Special Forest Products and Forest Botanical Products

AGENCY: Forest Service, USDA.

ACTION: Notice of Delay of Effective Date.

SUMMARY: The Department is delaying the effective date of this rule for an additional 60 days. The Department previously delayed the effective date and sought comment for 30 days ending on March 2, 2009 (74 FR 5107). More time is needed for the Forest Service to properly respond to the comments and to consider any potential changes to the rule. The rule regulates the sustainable free use, commercial harvest, and sale of special forest products and forest botanical products from National Forest System lands.

DATES: The effective date for the rule published at 73 FR 79367, December 29, 2008, is delayed until May 29, 2009.

FOR FURTHER INFORMATION CONTACT: Richard Fitzgerald, Forest Service, Forest Management Staff, (202) 205-1753. Individuals who use telecommunication devices for the deaf (TDD) may call the Federal Information Relay Service (FIRS) at 1-800-877-8339 between 8 a.m. and 8 p.m., Eastern Standard Time, Monday through Friday.

Dated: March 25, 2009.
Ann Bartuska,
Acting Deputy Under Secretary, Natural Resources and Environment.

[FR Doc. E9-7075 Filed 3-26-09; 11:15 am]

BILLING CODE 3410-11-P